SOCIAL SECURITY ADMINISTRATION

[Docket No. SSA-2024-0028]

Privacy Act of 1974; Matching Program

AGENCY: Social Security Administration (SSA).

ACTION: Notice of a new matching program.

SUMMARY: In accordance with the provisions of the Privacy Act, as amended, this notice announces a new matching program with the United States Department of the Treasury, Internal Revenue Service (IRS). Under this matching program, the IRS will disclose IRS to SSA certain return information for the purpose of verifying eligibility for the Medicare Part D Low Income Subsidy (LIS) and determines the correct subsidy percentage of benefits provided under the Social Security Act (Act).

DATES: Submit comments on the proposed matching program on or before May 12, 2025.

The matching program will be applicable on May 27, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2024-0028 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2024-0028 and then submit your comments. The system will issue you a tracking number to confirm your submission. You will not be able to view your comment immediately because we must post each submission manually. It may take up to a week for your comments to be viewable.

2. Fax: Fax comments to (833) 410-1631.

3. Mail: Matthew Ramsey, Executive Director, Office of Privacy and Disclosure, Office of Law and Policy, Social Security Administration, G-401 WHR, 6401 Security Boulevard, Baltimore, MD 21235-6401, or by emailing Matthew.Ramsey@ssa.gov. Comments are also available for public viewing on the Federal eRulemaking portal at https://www.regulations.gov or in person, during regular business hours, by arranging with the contact person identified below.

FOR FURTHER INFORMATION CONTACT: Interested parties may submit general questions about the matching program to Andrea Huseth, Division Director, Office of Privacy and Disclosure, Office of Law and Policy, Social Security Administration, G-401 WHR, 6401 Security Boulevard, Baltimore, MD 21235-6401, at telephone: (410) 608-9675, or send an email to Andrea.Huseth@ssa.gov.

SUPPLEMENTARY INFORMATION: None.

Matthew Ramsey,
Executive Director, Office of Privacy and Disclosure, Office of Law and Policy.

Participating Agencies

SSA and IRS.

Authority for Conducting the Matching Program

This matching agreement between IRS and SSA is executed pursuant to section 6103(l)(7)(D) of the Internal Revenue Code (IRC) (26 U.S.C. 6103(l)(7)) authorizes IRS to disclose return information with respect to unearned income to Federal, State and local agencies administering certain benefit programs under the Act.

Section 1860D-14 of the Act requires the Commissioner of Social Security to determine the eligibility of applicants for the prescription drug subsidy who self-certify their income, resources, and family size. Pursuant to section 1860D-14(a)(3) of the Act (42 U.S.C. 1395w-114(a)(3)), SSA must determine whether a Medicare Part D eligible individual is a subsidy-eligible individual, and whether the individual is an individual as described in section 1860D-14(a) of the Act.

Purpose(s)

This agreement sets forth the terms and conditions, and safeguards under which the IRS will to disclose to SSA certain return information for the purpose of verifying eligibility for the Medicare Part D LIS, and determining the correct subsidy percentage of benefits provided under section 1860D-14 of the Act (42 U.S.C. 1395w-114).

Categories of Individuals

The individuals whose information is involved in this matching program are beneficiaries for whom SSA must make Mediare Part D Low Income Subsidy determinations.

Categories of Records

SSA will provide electronically to IRS the following data elements in the finder file:

• Social Security number, and

• Name control.

IRS will disclose to SSA the following:

• Payee Account Number,

• Payee Name and Mailing Address,

• Payee Taxpayer Identification Number (TIN),

• Payer Name and Address,

• Payer TIN, and

• Income Type and Amount.

System(s) of Records

SSA's System of Records is the Medicare Database (MDB) File, 60-321, last fully published at 71 FR 42159 (July 25, 2006), and amended at 72 FR 69723 (December 10, 2007), and at 83 FR 54969 (November 1, 2018).

IRS will match SSA's information with its Information Return Master File (IRMF) and disclose to SSA return information with respect to unearned income from the IRMF [Treasury/IRS 22.061], as published at 77 FR 47946 (August 10, 2012), as amended by 80 FR 54081-082 (September 8, 2015), through the “Disclosure of Information to Federal, State and Local Agencies” program.

[FR Doc. 2025-06168 Filed 4-10-25; 8:45 am]

BILLING CODE 4191-02-P